SURFACE TRANSPORTATION BOARD

[Docket No. FD 36536]

Tulsa Base Railroad, L.L.C.—Lease and Operation Exemption—Base, Inc.

Tulsa Base Railroad, L.L.C. (TBR), a noncarrier, has filed a verified notice of exemption under 49 CFR 1150.31 to acquire by lease and to operate 745 feet of track that extends south of the point-of-switch with BNSF Railway Company (BNSF) at BNSF milepost 419.05 in Tulsa, Okla. (the Line).

TBR states that the Line is owned by BNSF, which operated it as spur track. According to TBR, BNSF leases the premises that include the Line to Base, Inc. (Base), the sole equity member of TBR, which in turn has subleased the Line to TBR for an initial term of seven years.¹ TBR further states that the agreements between BNSF and Base and between Base and TBR do not include any provision or agreement that would limit future interchange with a third-party connecting carrier.

¹ The verified notice states that because Base does not currently control any rail carriers, no Board authority is required for Base to control TBR once TBR becomes a rail carrier.

TBR certifies that its anticipated annual revenue will not exceed that of a Class III rail carrier and will not exceed $5 million.

The transaction may be consummated on or after September 16, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than September 9, 2021 (at least seven days before the exemption becomes effective).

All pleadings, referring to Docket No. FD 36536, should be filed with the Surface Transportation Board via e-filing on the Board's website. In addition, a copy of each pleading must be served on TBR's representative, Bradon J. Smith, Fletcher & Sippel LLC, 29 North Wacker Drive, Suite 800, Chicago, IL 60606.

According to TBR, this action is categorically excluded from environmental review under 49 CFR 1105.6(c) and from historic reporting requirements under 49 CFR 1105.8(b).

Board decisions and notices are available at www.stb.gov.

Decided: August 30, 2021.
By the Board, Scott M. Zimmerman, Acting Director, Office of Proceedings.
Brendetta Jones,
Clearance Clerk.

[FR Doc. 2021-19008 Filed 9-1-21; 8:45 am]

BILLING CODE 4915-01-P